DEPARTMENT OF ENERGY

Federal Energy Regulatory Commission

Combined Notice of Filings

Take notice that the Commission has received the following Natural Gas Pipeline Rate and Refund Report filings:

Filings Instituting Proceedings

Docket Number: PR17-3-000.

Applicants: ONEOK Gas Transportation, L.L.C.

Description: Tariff filing per 284.123(e) + (g): Revised Statement of Operating Conditions for Section 311 Transportation Service to be effective 10/1/2016; Filing Type: 1280.

Filed Date: 10/28/2016.

Accession Number: 201610285143.

Comments Due: 5 p.m. ET 11/18/16.

284.123(g) Protests Due: 5 p.m. ET 12/27/16.

Docket Numbers: RP17-97-000.

Applicants: Southern Star Central Gas Pipeline, Inc.

Description: § 4(d) Rate Filing: Misc Tariff Filing October 2016 to be effective 12/1/2016.

Filed Date: 10/31/16.

Accession Number: 20161031-5040.

Comments Due: 5 p.m. ET 11/14/16.

Docket Numbers: RP17-98-000.

Applicants: Dominion Transmission, Inc.

Description: Dominion Transmission, Inc. submits tariff filing per 154.204: DTI—October 31, 2016 Nonconforming Service Agreement to be effective 11/1/2016.

Filed Date: 10/31/16.

Accession Number: 20161031-5051.

Comments Due: 5 p.m. ET 11/14/16.

Docket Numbers: RP17-99-000.

Applicants: Columbia Gas Transmission, LLC.

Description: § 4(d) Rate Filing: Housekeeping Filing to be effective 12/1/2016.

Filed Date: 10/31/16.

Accession Number: 20161031-5052.

Comments Due: 5 p.m. ET 11/14/16.

Docket Numbers: RP17-100-000.

Applicants: Texas Eastern Transmission, LP.

Description: § 4(d) Rate Filing: Negotiated Rates—Chevron Release eff 11-1-2016 to be effective 11/1/2016.

Filed Date: 10/31/16.

Accession Number: 20161031-5058.

Comments Due: 5 p.m. ET 11/14/16.

Docket Numbers: RP17-101-000.

Applicants: Algonquin Gas Transmission, LLC.

Description: § 4(d) Rate Filing: Negotiated Rates—Colonial Releases eff 11-1-2016 to be effective 11/1/2016.

Filed Date: 10/31/16.

Accession Number: 20161031-5059.

Comments Due: 5 p.m. ET 11/14/16.

Docket Numbers: RP17-102-000.

Applicants: Rager Mountain Storage Company LLC.

Description: § 4(d) Rate Filing: Rager Mountain October 2016 Clean Up Filing to be effective 12/1/2016.

Filed Date: 10/31/16.

Accession Number: 20161031-5068.

Comments Due: 5 p.m. ET 11/14/16.

Docket Numbers: RP17-103-000.

Applicants: East Tennessee Natural Gas, LLC.

Description: § 4(d) Rate Filing: OPC K410465 11-1-2016 Negotiated Rate to be effective 11/1/2016.

Filed Date: 10/31/16.

Accession Number: 20161031-5071.

Comments Due: 5 p.m. ET 11/14/16.

Docket Numbers: RP17-104-000.

Applicants: Texas Eastern Transmission, LP.

Description: § 4(d) Rate Filing: Negotiated Rates—Con Ed Releases eff 11-1-2016 to be effective 11/1/2016.

Filed Date: 10/31/16.

Accession Number: 20161031-5077.

Comments Due: 5 p.m. ET 11/14/16.

Docket Numbers: RP17-105-000.

Applicants: Fayetteville Express Pipeline LLC.

Description: § 4(d) Rate Filing: Fuel Filing on 10-31-16 to be effective 12/1/2016.

Filed Date: 10/31/16.

Accession Number: 20161031-5103.

Comments Due: 5 p.m. ET 11/14/16.

Docket Numbers: RP17-106-000.

Applicants: Texas Gas Transmission, LLC.

Description: § 4(d) Rate Filing: Amendments to Neg Rate Agmts (Bosco Meter Change) to be effective 11/1/2016.

Filed Date: 10/31/16.

Accession Number: 20161031-5106.

Comments Due: 5 p.m. ET 11/14/16.

Docket Numbers: RP17-107-000.

Applicants: Texas Gas Transmission, LLC.

Description: § 4(d) Rate Filing: Remove Agreements Expiring 10/31/2016 to be effective 11/1/2016.

Filed Date: 10/31/16.

Accession Number: 20161031-5108.

Comments Due: 5 p.m. ET 11/14/16.

Docket Numbers: RP17-108-000.

Applicants: ETC Tiger Pipeline, LLC.

Description: § 4(d) Rate Filing: Fuel Filing on 10-31-16 to be effective 12/1/2016.

Filed Date: 10/31/16.

Accession Number: 20161031-5110.

Comments Due: 5 p.m. ET 11/14/16.

Docket Numbers: RP17-109-000.

Applicants: Rockies Express Pipeline LLC.

Description: § 4(d) Rate Filing: Neg Rate 2016-10-31 ARM to be effective 11/1/2016.

Filed Date: 10/31/16.

Accession Number: 20161031-5114.

Comments Due: 5 p.m. ET 11/14/16.

Docket Numbers: RP17-110-000.

Applicants: Gulf South Pipeline Company, LP.

Description: § 4(d) Rate Filing: Amendments to Neg Rate Agmts (Bosco Meter Change) to be effective 11/1/2016.

Filed Date: 10/31/16.

Accession Number: 20161031-5119.

Comments Due: 5 p.m. ET 11/14/16.

Docket Numbers: RP17-111-000.

Applicants: Gulf South Pipeline Company, LP.

Description: § 4(d) Rate Filing: Cap Rel Neg Rate Agmt (QEP 37657 to Atmos 45527) to be effective 11/1/2016.

Filed Date: 10/31/16.

Accession Number: 20161031-5120.

Comments Due: 5 p.m. ET 11/14/16.

Docket Numbers: RP17-112-000.

Applicants: Gulf South Pipeline Company, LP.

Description: § 4(d) Rate Filing: Cap Rel Neg Rate Agmts (Atlanta Gas 8438 to various shippers eff 11-1-16) to be .effective 11/1/2016.

Filed Date: 10/31/16.

Accession Number: 20161031-5123.

Comments Due: 5 p.m. ET 11/14/16.

Docket Numbers: RP17-113-000.

Applicants: Gulf South Pipeline Company, LP.

Description: § 4(d) Rate Filing: Cap Rel Neg Rate Agmt (FPL 41618 to Tenaska 47321, DTE 47381) to be effective 11/1/2016.

Filed Date: 10/31/16.

Accession Number: 20161031-5124.

Comments Due: 5 p.m. ET 11/14/16.

Docket Numbers: RP17-114-000.

Applicants: Gulf South Pipeline Company, LP.

Description: § 4(d) Rate Filing: Cap Rel Neg Rate Agmt (Methanex 42805 to BP 47327) to be effective 11/1/2016.

Filed Date: 10/31/16.

Accession Number: 20161031-5125.

Comments Due: 5 p.m. ET 11/14/16.

Docket Numbers: RP17-115-000.

Applicants: Gulf South Pipeline Company, LP.

Description: § 4(d) Rate Filing: Cap Rel Neg Rate Agmt (PH 41455 to Texla 47331, BP 47392, Seq 47383) to be effective 11/1/2016.

Filed Date: 10/31/16.

Accession Number: 20161031-5126.

Comments Due: 5 p.m. ET 11/14/16.

Docket Numbers: RP17-116-000.

Applicants: Gulf South Pipeline Company, LP.

Description: § 4(d) Rate Filing: Cap Rel Neg Rate Agmt (EOG 34687 to Trans LA 47332) to be effective 11/1/2016.

Filed Date: 10/31/16.

Accession Number: 20161031-5128.

Comments Due: 5 p.m. ET 11/14/16.

Docket Numbers: RP17-117-000.

Applicants: Gulf South Pipeline Company, LP.

Description: § 4(d) Rate Filing: Cap Rel Neg Rate Agmt (Encana 37663 to Texla 47333, ConocoPhillips 47386, 47400) to be effective 11/1/2016.

Filed Date: 10/31/16.

Accession Number: 20161031-5130.

Comments Due: 5 p.m. ET 11/14/16.

Docket Numbers: RP17-118-000.

Applicants: Gulf South Pipeline Company, LP.

Description: § 4(d) Rate Filing: Cap Rel Neg Rate Agmt (EOG 34687 to NJR 47338) to be effective 11/1/2016.

Filed Date: 10/31/16.

Accession Number: 20161031-5132.

Comments Due: 5 p.m. ET 11/14/16.

Docket Numbers: RP17-119-000.

Applicants: Tallgrass Interstate Gas Transmission, L.

Description: § 4(d) Rate Filing: NRA Rate 2016/31/10 Northwestern to be effective 11/1/2016.

Filed Date: 10/31/16.

Accession Number: 20161031-5135.

Comments Due: 5 p.m. ET 11/14/16.

Docket Numbers: RP17-120-000.

Applicants: Texas Eastern Transmission, LP.

Description: § 4(d) Rate Filing: TETLP ASA DEC 2016 FILING to be effective 12/1/2016.

Filed Date: 10/31/16.

Accession Number: 20161031-5145.

Comments Due: 5 p.m. ET 11/14/16.

Docket Numbers: RP17-121-000.

Applicants: Iroquois Gas Transmission System, L.P.

Description: § 4(d) Rate Filing: 10/31/16 Negotiated Rates—Vitol Inc. (HUB) 7495-89 to be effective 11/1/2016.

Filed Date: 10/31/16.

Accession Number: 20161031-5162.

Comments Due: 5 p.m. ET 11/14/16.

Docket Numbers: RP17-122-000.

Applicants: Iroquois Gas Transmission System, L.P.

Description: § 4(d) Rate Filing: 10/31/16 Negotiated Rates—Hartree Partners, LP (HUB) 7090-89 to be effective 11/1/2016.

Filed Date: 10/31/16.

Accession Number: 20161031-5189.

Comments Due: 5 p.m. ET 11/14/16.

Docket Numbers: RP17-123-000.

Applicants: Algonquin Gas Transmission, LLC.

Description: § 4(d) Rate Filing: Negotiated Rates—KeySpan Releases eff 11-1-2016 to be effective 11/1/2016.

Filed Date: 10/31/16.

Accession Number: 20161031-5191.

Comments Due: 5 p.m. ET 11/14/16.

Docket Numbers: RP17-124-000.

Applicants: Iroquois Gas Transmission System, L.P.

Description: § 4(d) Rate Filing: 10/31/16 Negotiated Rates—Sequent Energy Management (HUB) 3075-89 to be effective 11/1/2016.

Filed Date: 10/31/16.

Accession Number: 20161031-5205.

Comments Due: 5 p.m. ET 11/14/16.

Docket Numbers: RP17-125-000.

Applicants: Northern Natural Gas Company.

Description: § 4(d) Rate Filing: 20161031 Negotiated Rate to be effective 11/1/2016.

Filed Date: 10/31/16.

Accession Number: 20161031-5209.

Comments Due: 5 p.m. ET 11/14/16.

Docket Numbers: RP17-126-000.

Applicants: Midcontinent Express Pipeline LLC.

Description: § 4(d) Rate Filing: Q-West/Aethon Negotiated Rate to be effective 11/1/2016.

Filed Date: 10/31/16.

Accession Number: 20161031-5211.

Comments Due: 5 p.m. ET 11/14/16.

Docket Numbers: RP17-127-000.

Applicants: Natural Gas Pipeline Company of America.

Description: § 4(d) Rate Filing: J-W Gathering Removal of Expired Contract to be effective 11/1/2016.

Filed Date: 10/31/16.

Accession Number: 20161031-5239.

Comments Due: 5 p.m. ET 11/14/16.

Docket Numbers: RP17-128-000.

Applicants: Alliance Pipeline L.P.

Description: § 4(d) Rate Filing: 2016-10-31 J.Aron Partial Assignment to be effective 11/1/2016.

Filed Date: 10/31/16.

Accession Number: 20161031-5241.

Comments Due: 5 p.m. ET 11/14/16.

Docket Numbers: RP17-129-000.

Applicants: Equitrans, L.P.

Description: § 4(d) Rate Filing: Assignment of TAPO Energy Agreement to Jerry Poling to be effective 11/1/2016.

Filed Date: 10/31/16.

Accession Number: 20161031-5244.

Comments Due: 5 p.m. ET 11/14/16.

Docket Numbers: RP17-130-000.

Applicants: Algonquin Gas Transmission, LLC.

Description: § 4(d) Rate Filing: Negotiated Rates—Con Ed Ramapo Releases eff 11-1-2016 to be effective 11/1/2016.

Filed Date: 10/31/16.

Accession Number: 20161031-5263.

Comments Due: 5 p.m. ET 11/14/16.

Docket Numbers: RP17-131-000.

Applicants: El Paso Natural Gas Company, L.L.C.

Description: § 4(d) Rate Filing: Negotiated Rate Agreement Filing (WPX Marketing LLC Nov 2016) to be effective 11/1/2016.

Filed Date: 10/31/16.

Accession Number: 20161031-5265.

Comments Due: 5 p.m. ET 11/14/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2016
Nathaniel J. Davis, Sr.,
Deputy Secretary.

[FR Doc. 2016-26843 Filed 11-4-16; 8:45 am]

BILLING CODE 6717-01-P`